POSTAL REGULATORY COMMISSION

[Docket No. MC2008-7, CP2008-16, CP2008-17; Order No. 98]

Administrative Practice and Procedure; Postal Service

AGENCY: Postal Regulatory Commission.

ACTION: Notice.

SUMMARY: The Commission has established formal dockets to consider a formal request to add a new product to the competitive product list for prices not of general applicability and incorporates a notice of execution of two related contracts. The Commission's action will provide for public input and for a review to determine consistency with applicable statutory requirements.

DATES: Comments are due August 27, 2008.

FOR FURTHER INFORMATION CONTACT: Stephen L. Sharfman, General Counsel, 202-789-6820 or stephen.sharfman@prc.gov.

SUPPLEMENTARY INFORMATION:

I. Introduction

On August 8, 2008, the Postal Service filed a formal request (with attachments) to add a new product to the competitive product list for prices not of general applicability.¹ The Request incorporates notice of (1) issuance of the Governors' Decision authorizing the new product; (2) the execution of two related contracts; and (3) submission of supporting material under seal.²

¹ See Request of the United States Postal Service to Add Global Plus 2 Negotiated Service Agreements to the Competitive Product List, and Notice of Filing (Under Seal) the Enabling Governors' Decision and Two Functionally Equivalent Agreements, August 8, 2008 (Request). Attachment 1 to the Request consists of Decision of the Governors of the United States Postal Service on the Establishment of Prices and Classifications for Global Direct, Global Bulk Economy, and Global Plus Contracts (Governors' Decision No. 08-10), July 16, 2008 (Governors' Decision). The Governors' Decision includes its own set of attachments presenting proposed classification language, pricing formulas and analyses, and the certification required under Commission rules. In the Request as filed, portions of the Governors' Decision and some of the attachments are redacted. Attachment 2 to the Request is the Statement of Supporting Justification provided by Frank Cebello, Executive Director of Global Business Management for the Postal Service (Cebello Statement) in the capacity of sponsor of the instant Request.

² This material includes an unredacted version of the enabling Governors' Decision, the record of proceedings, and other documents addressing compliance with 39 CFR 3015.5.

Request. The Request was filed pursuant to 39 U.S.C. 3642 and 39 CFR 3020.30 et seq. Substantively, it seeks the addition of a shell classification in the competitive product list for a product referred to as Global Plus 2 Negotiated Service Agreements. Prices for this product, by the terms of the Governors' Decision, are established by setting price floor and price ceiling formulas in the contracts.

The Request also addresses the Postal Service's interest in confidentiality; presents proposed Mail Classification Schedule (MCS) language; cites the Cebello Statement with respect to satisfaction of pertinent Commission rules; and discusses reasons why the Global Plus 2 contracts should be deemed functionally equivalent. Request at 2-7. It affirmatively notes that the contracts include retroactivity provisions.³ Id. at 7-9.

³ The Postal Service states that the retroactivity provisions were intended to sustain customer relationships and avoid an interruption in service given uncertainty about the timing of review of the new Global Plus 2 contracts; however, it further notes that based on the Commission's decision and guidance in Order No. 85 (which was issued after the Global Plus 2 contracts were executed), it no longer intends to present future contracts to the Commission with retroactivity provisions. Instead, it will avail itself of the procedure for expedited consideration of requests for temporary relief when warranted. Request at 9.

Related contracts. The Postal Service contemporaneously filed contracts related to the proposed new product listing pursuant to 39 U.S.C. 3632(b)(3) and 39 CFR 3015.5. It maintains that both contracts, by virtue of their terms, fit within the proposed MCS language. It asks that the contracts be added as one product to the competitive product list for prices not of general applicability. Id. at 1. It further notes that both contracts are set to expire July 1, 2009. Id. at 2.

II. Notice of Filings

The Commission establishes Docket Nos. MC2008-7, CP2008-16 and CP2008-17 for consideration of the Request pertaining to Global Plus 2 and the two related contracts. In keeping with recent practice, these dockets are addressed on a consolidated basis for purposes of this Order; however, future filings should be made in the specific docket in which issues being addressed pertain. Interested persons may submit comments on whether the Postal Service's filings in the captioned dockets are consistent with the policies of 39 U.S.C. 3632, 3633, or 3642. Comments are due no later than August 27, 2008. The public portions of these filings can be accessed via the Commission's Web site (www.prc.gov).

The Commission appoints Paul L. Harrington to serve as Public Representative in the captioned filings.

It is Ordered:

1. The Commission establishes Docket Nos. MC2008-7, CP2008-16 and CP2008-17 for consideration of the matters raised in each docket.

2. The Commission, pursuant to 39 U.S.C. 505, appoints Paul L. Harrington to serve as officer of the Commission (Public Representative) to represent the interests of the general public in these proceedings.

3. Comments by interested persons on issues in these proceedings are due no later than August 27, 2008.

4. The Secretary shall arrange for publication of this Order in the Federal Register.

By the Commission.
Issued August 13, 2008.
Judith M. Grady,
Acting Secretary.

[FR Doc. E8-19439 Filed 8-21-08; 8:45 am]

BILLING CODE 7710-FW-P